DEPARTMENT OF THE INTERIOR

Bureau of Land Management

[CA-670-5101-ER-B140; CACA-42662]

Notice of Availability of Final Environmental Impact Statement/Environmental Impact Report and Proposed Amendments to the California Desert Conservation Area Plan and the Yuma District Resource Management Plan in Conjunction With the Proposed North Baja Pipeline Project

AGENCY: Bureau of Land Management, Department of the Interior.

ACTION: Notice of Availability of Final Environmental Impact Statement/Environmental Impact Report and proposed amendments to the California Desert Conservation Area Plan (CDCA Plan) and the Yuma District Resource Management Plan in conjunction with the proposed North Baja Pipeline Project.

SUMMARY: This notice announces the availability of Final Environmental Impact Statement/Environmental Impact Report (EIS/EIR) and proposed amendments to the California Desert Conservation Area Plan (CDCA Plan) and the Yuma District Resource Management Plan (Yuma RMP) in conjuction with the proposed North Baja Pipeline project. The proposed North Baja Pipeline project would provide natural gas supplies for new gas-fired electric power generation serving the power grids in Baja California, Mexico and southern California, where there has been strong documented demand. The proposed North Baja Pipeline project extends from Ehrenberg, Arizona, through Riverside and Imperial Counties in California, south to the Mexican border. All federal lands affected by the proposed plan amendments are located in eastern Imperial County, California.

DATES: The Final EIS/EIR and proposed plan amendments will be available for public review and protest until February 10, 2002. Protests must be filed in accordance with the instructions described in the Supplemental Information section of this notice.

ADDRESSES: Director, Bureau of Land Management (WO-210, ms 1075LS), Attention: Brenda Hudgens-Williams, Protest Coordinator, 1620 L Street, NW, Washington, DC, 20236. Please send a copy of any protest along with all backup documentation to Lynda Kastoll, El Centro Field Office, 1661 South 4th St., El Centro, CA 92243.

FOR FURTHER INFORMATION CONTACT: For general information contact Lynda Kastoll, Project Manager, Bureau of Land Management El Centro Field Office, 1661 S. 4th St., El Centro, CA 92243 (760) 337-4421.

SUPPLEMENTARY INFORMATION: The Federal Energy Regulatory Commission is the lead Federal agency on this project; BLM is a cooperating agency. The proposed amendment to the CDCA Plan would allow placement of pipeline outside of a designated utility corridor. The proposed Yuma RMP amendment would allow the placement of pipeline across portions of the Milpitas Wash Natural Area in which the RMP currently does not allow new utilities to be sited. A limited number of individual copies of the Final EIS/EIR and Plan Amendments may be obtained from BLM's El Centro Field Office. Copies are also available for inspection at the following locations:

(a). Public libraries in Blythe, Riverside and El Centro, California and in Yuma and Parker, Arizona

(b). Bureau of Land Management, California State Office, 2800 Cottage Way, Sacramento, CA 95825

(c). Bureau of Land Management, El Centro Field Office, 1661 S. 4th St., El Centro, CA 92243;

(d). Bureau of Land Management, Yuma Field Office, 2555 East Gila Ridge Road, Yuma, AZ 85365.

(e). Bureau of Land Management, California Desert District, 6221 Box Springs Boulevard, Riverside, California 92507.

(f). Federal Regulatory Energy Commission, Public Reference and Files Maintenance Branch, 888 First Street, NE., Room 2A, Washington, DC 20426.

(g). California State Lands Commission, 100 Howe Avenue, Suite 100 South, Sacramento, CA 95825-8202

In accordance with 43 CFR 1610.5-2, any person who participated in the planning process and believes they will be adversely affected by this plan amendment may protest the proposed amendment. The protest may raise only those issues which were submitted for the record during the planning process. The protest must be in writing and filed, on or before February 10, 2002, with the Director, Bureau of Land Management (WO-210, ms 1075LS), Attention: Brenda Hudgens-Williams, Protest Coordinator, 1620 L Street NW., Washington, DC, 20236. Please send a copy of any protest along with all backup documentation to Lynda Kastoll, El Centro Field Office, 1661 S. 4th St., El Centro, CA 92243. In order to be considered complete, your protest must contain, at a minimum, the following information:

1. The name, mailing address, telephone number, and interest of the person filing the protest.

2. A statement of the issue or issues being protested.

3. A statement of the part or parts of the proposed plan amendment being protested. To the extent possible, this should be done by reference to specific pages, paragraphs, sections, tables, maps, etc., included in the document.

4. A copy of all documents addressing the issue or issues that you submitted during the planning process or a reference to the date the issue or issues were addressed by you for the record.

5. A concise statement explaining why you believe the proposed plan amendment is wrong.

Dated: December 20, 2001.
J. Anthony Danna,
Acting State Director, California.

[FR Doc. 02-601 Filed 1-9-02; 8:45 am]

BILLING CODE 4310-40-P